DEPARTMENT OF AGRICULTURE

Farm Service Agency

Public Meeting on Implementation of Electronic Warehouse Receipts and Other Electronic Documents for Grain and Rice

AGENCY: Farm Service Agency, USDA.

ACTION: Notice of meeting.

SUMMARY: The Department of Agriculture (USDA) will conduct a public meeting to solicit comments and options regarding the implementation of electronic warehouse receipts (EWRs) and other electronic documents (OEDs) for grain and rice as authorized by the Grain Standards and Warehouse Improvement Act of 2000 ((Pub. L. 106-472) (7 U.S.C. 241 et seq.) (United States Warehouse Act (USWA)), enacted November 9, 2000. The meeting will be open to the public, with attendance limited to available space on a first-come basis. Attendees are asked to be prepared to share information concerning their views on implementing the EWRs and OEDs for grain and rice within the current operational environment as well as future e-commerce activities. No registration or fee is required to attend or participate in the public meeting.

DATES: November 9-10, 2004, from 8 a.m. to 5 p.m.

ADDRESSES: The meeting will take place at USDA's Beacon Building, 6501 Beacon Drive, Kansas City, Missouri 64133-4676.

Requests to address the meeting and written comments may be sent to: Roger Hinkle, USWA Program Manager, Warehouse and Inventory Division, Farm Service Agency, USDA, 1400 Independence Avenue, SW., STOP 0553, Washington DC 20250-0553; FAX: (202) 690-3123; e-mail: Roger.Hinkle@usda.gov.

FOR FURTHER INFORMATION CONTACT: Mr. David Kirkland, (816) 823-1144 (telephone); or (816) 448-5622 (facsimile); or by e-mail at David.Kirkland@kcc.usda.gov.

Persons with disabilities who require special accommodation to attend or participate in the meeting should contact Laurie Montgomery, telephone: (202) 205-7832; e-mail: laurie.montgomery@usda.gov, by November 1, 2004.

SUPPLEMENTARY INFORMATION: The purpose of the meeting is to provide all interested parties an opportunity to discuss the development and implementation of EWRs and OEDs for grain and rice as authorized under the USWA and its regulations at 7 CFR part 735. A copy of the USWA, its regulations and Provider Agreements can be found online at http://www.fsa.usda.gov/daco/uswa.htm. The USWA was enacted in part to be more relevant to today's agricultural marketing and financial systems. The USWA provides authorization for the issuance and transfer of EWRs and OEDs relating to the shipment, payment, and financing of the sale of agricultural products, and the standardization of such electronic documents.

The agenda will include, but is not limited to the following:

(1) Current status of EWR and OED—Provider Agreements,

(2) Review Draft Provider Agreements Addendum for grain and rice EWRs,

(3) Completing the addendum, making sure all data requirements for grain and rice are included,

(4) FSA-Price Support Division's (PSD's) requirements in developing a Commodity Credit Corporation (CCC) User Agreement for grain and rice EWRs,

(5) Discuss requirements for a USWA and CCC pilot grain and rice EWR program,

(6) Integration of Electronic Data Interfaces with grain and rice warehouse accounting software,

(7) Discuss current and prospective EWR systems or concepts,

(8) Expectations of grain and rice companies and cooperatives,

(9) Expectations of grain and rice commodity exchanges,

(10) Expectations of banks, lenders, sureties and insurance underwriters,

(11) Expectations of current and prospective EWR providers, and

(12) Next steps for USDA.

This meeting is open to the public. Persons wishing to make a brief presentation up to 15 minutes are asked to provide a written request with a description of the general subject to Mr. Hinkle, at the address shown above, no later than noon, October 25, 2004. It is requested that 50 copies of the written statement be submitted at the time of the meeting for distribution and placement in the official file.

Persons with comments or suggestions should provide Mr. Hinkle, at the address shown above, with a written copy of their comments no later than October 25, 2004.

Signed at Washington, DC: October 15, 2004.
James R. Little,
Administrator, Farm Service Agency.

[FR Doc. 04-23831 Filed 10-22-04; 8:45 am]

BILLING CODE 3410-05-P